DEPARTMENT OF HOMELAND SECURITY

Federal Emergency Management Agency

[Docket ID FEMA-2022-0002; Internal Agency Docket No. FEMA-B-2253]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arkansas: Johnson | Unincorporated areas of Johnson County (21-06-1009P). | The Honorable Herman H. Houston, Johnston County Judge, 215 West Main Street, Clarksville, AR 72830. | Johnson County Courthouse, 215 West Main Street, Clarksville, AR 72830. | https://msc.fema.gov/portal/advanceSearch. | Oct. 20, 2022 | 050441
Colorado:
Arapahoe | City of Littleton (21-08-0952P). | The Honorable Kyle Schlachter, Mayor, City of Littleton, 2255 West Berry Avenue, Littleton, CO 80120. | Public Works Department, 2255 West Berry Avenue, Littleton, CO 80120. | https://msc.fema.gov/portal/advanceSearch. | Oct. 21, 2022 | 080017
Arapahoe | Unincorporated areas of Arapahoe County (21-08-0952P). | The Honorable Nancy Jackson, Chair, Arapahoe County, Board of Commissioners, 5334 South Prince Street, Littleton, CO 80120. | Arapahoe County Public Works and Development Department, 6924 South Lima Street, Centennial, CO 80112. | https://msc.fema.gov/portal/advanceSearch. | Oct. 21, 2022 | 080011
Jefferson | Unincorporated areas of Jefferson County (21-08-0952P). | The Honorable Andy Kerr, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Oct. 21, 2022 | 080087
Florida:
Broward | City of Oakland Park (22-04-0596P). | The Honorable Michael E. Carn, Mayor, City of Oakland Park, 3650 Northeast 12th Avenue, Oakland Park, FL 33334. | City Hall, 3650 Northeast, 12th Avenue, Oakland Park, FL 33334. | https://msc.fema.gov/portal/advanceSearch. | Oct. 11, 2022 | 120050
Monroe | Unincorporated areas of Monroe County (22-04-2567P). | The Honorable David Rice, Mayor, Monroe County Board of Commissioners, 9400 Overseas Highway, Suite 210, Marathon, FL 33050. | Monroe County Building Department, 2798 Overseas Highway, Suite 300, Marathon, FL 33050. | https://msc.fema.gov/portal/advanceSearch. | Oct. 27, 2022 | 125129
Monroe | Unincorporated areas of Monroe County (22-04-2665P). | The Honorable David Rice, Mayor, Monroe County Board of Commissioners, 9400 Overseas Highway, Suite 210, Marathon, FL 33050. | Monroe County Building Department, 2798 Overseas Highway, Suite 300, Marathon, FL 33050. | https://msc.fema.gov/portal/advanceSearch. | Oct. 24, 2022 | 125129
Orange | Unincorporated areas of Orange County (22-04-1714P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Oct. 31, 2022 | 120179
Sarasota | City of Sarasota (22-04-2558P). | The Honorable Erik Arroyo, Mayor, City of Sarasota, 1565 1st Street, Room 101, Sarasota, FL 34236. | Development Services Department, 1565 1st Street, Sarasota, FL 34236. | https://msc.fema.gov/portal/advanceSearch. | Oct. 11, 2022 | 125150
Kentucky: Scott | City of Georgetown (22-04-2347P). | The Honorable Tom Prather, Mayor, City of Georgetown, 100 North Court Street, Georgetown, KY 40324. | Planning and Zoning Department, 230 East Main Street, Georgetown, KY 40324. | https://msc.fema.gov/portal/advanceSearch. | Sep. 12, 2022 | 210208
Oklahoma: Canadian and Oklahoma | City of Oklahoma City (21-06-3298P). | The Honorable David Holt, Mayor, City of Oklahoma City, 200 North Walker Avenue, 3rd Floor, Oklahoma City, OK 73102. | Public Works Department, 420 West Main Street, Suite 700, Oklahoma City, OK 73102. | https://msc.fema.gov/portal/advanceSearch. | Oct. 14, 2022 | 405378
Pennsylvania:
Montgomery | Township of Lower Merion (21-03-1283P). | Ernie B. McNeely, Manager, Township of Lower Merion, 75 East Lancaster Avenue, Ardmore, PA 19003. | Township Hall, 75 East Lancaster Avenue, Ardmore, PA 19003. | https://msc.fema.gov/portal/advanceSearch. | Sep. 26, 2022 | 420701
Philadelphia | City of Philadelphia (21-03-1283P). | The Honorable Jim Kenney, Mayor, City of Philadelphia, 1400 John F. Kennedy Boulevard, Room 215, Philadelphia, PA 19107. | Department of Licenses and Inspections, 1401 John F. Kennedy Boulevard, 11th Floor, Philadelphia, PA 19102. | https://msc.fema.gov/portal/advanceSearch. | Sep. 26, 2022 | 420757
South Carolina:
Horry | Unincorporated areas of Horry County (22-04-0124P). | The Honorable Johnny Gardner, Chair, Horry County Council, P.O. Box 1236, Conway, SC 29528. | Horry County Government Office, 1301 2nd Avenue, Suite 1D09, Conway, SC 29526. | https://msc.fema.gov/portal/advanceSearch. | Oct. 21, 2022 | 450104
Sumter | City of Sumter (22-04-2326P). | The Honorable David P. Merchant, Mayor, City of Sumter, 21 North Main Street, Sumter, SC 29151. | Sumter City-County Planning Department, 12 West Liberty Street, Sumter, SC 29150. | https://msc.fema.gov/portal/advanceSearch. | Sep. 30, 2022 | 450184
Sumter | Unincorporated areas of Sumter County (22-04-2326P). | The Honorable James T. McCain, Jr., Chair, Sumter County Council, 13 East Canal Street, Sumter, SC 29150. | Sumter City-County Planning Department, 12 West Liberty Street, Sumter, SC 29150. | https://msc.fema.gov/portal/advanceSearch. | Sep. 30, 2022 | 450182
Texas:
Bexar | City of San Antonio (21-06-2461P). | The Honorable Ron Nirenberg, Mayor, City of San Antonio, P.O. Box 839966, San Antonio, TX 78283. | Transportation and Capital Improvements Department, Stormwater Division, 1901 South Alamo Street, San Antonio, TX 78204. | https://msc.fema.gov/portal/advanceSearch. | Sep. 12, 2022 | 480045
Bexar | Unincorporated areas of Bexar County (21-06-2900P). | The Honorable Nelson W. Wolff, Bexar County Judge, 101 West Nueva Street, 10th Floor, San Antonio, TX 78205. | Bexar County Public Works Department, 1948 Probandt Street, San Antonio, TX 78214. | https://msc.fema.gov/portal/advanceSearch. | Oct. 3, 2022 | 480035
Collin | City of Anna (21-06-3396P). | The Honorable Nate Pike, Mayor, City of Anna, P.O. Box 776, Anna, TX 75409. | Public Works Department, 3223 North Powell Parkway, Anna, TX 75409. | https://msc.fema.gov/portal/advanceSearch. | Sep. 26, 2022 | 480132
Collin | Unincorporated areas of Collin County (21-06-3396P). | The Honorable Chris Hill, Collin County Judge, 2300 Bloomdale Road, Suite 4192, McKinney, TX 75071. | Collin County Engineering Department, 4690 Community Avenue, Suite 200, McKinney, TX 75071. | https://msc.fema.gov/portal/advanceSearch. | Sep. 26, 2022 | 480130
Dallas | City of DeSoto (21-06-3174P). | The Honorable Rachel L. Proctor, Mayor, City of DeSoto, 211 East Pleasant Run Road, DeSoto, TX 75115. | Development Services Department, 211 East Pleasant Run Road, DeSoto, TX 75115. | https://msc.fema.gov/portal/advanceSearch. | Sep. 7, 2022 | 480172
Harris | City of Houston (21-06-2034P). | The Honorable Sylvester Turner, Mayor, City of Houston, P.O. Box 1562, Houston, TX 77251. | Floodplain Management Department, 1002 Washington Avenue, Houston, TX 77002. | https://msc.fema.gov/portal/advanceSearch. | Sep. 12, 2022 | 480296
Hays | City of Buda (21-06-2861P). | The Honorable Lee Urbanovsky, Mayor, City of Buda, 405 East Loop Street, Building 100, Buda, TX 78610. | Engineering Department, 405 East Loop Street, Building 100, Buda, TX 78610. | https://msc.fema.gov/portal/advanceSearch. | Oct. 13, 2022 | 481640
Hays | Unincorporated areas of Hays County (21-06-2861P). | The Honorable Ruben Becerra, Hays County Judge, 111 East San Antonio Street, Suite 300, San Marcos, TX 78666. | Hays County Office of Development Services, 2171 Yarrington Road, Suite 100, Kyle, TX 78640. | https://msc.fema.gov/portal/advanceSearch. | Oct. 13, 2022 | 480321
Johnson | City of Alvarado (22-06-0104P). | The Honorable Jacob Wheat, Mayor, City of Alvarado, 104 West College Street, Alvarado, TX 76009. | City Hall, 104 West College Street, Alvarado, TX 76009. | https://msc.fema.gov/portal/advanceSearch. | Oct. 20, 2022 | 480397
Johnson | Unincorporated areas of Johnson County (22-06-0104P). | The Honorable Roger Harmon, Johnson County Judge, 2 North Main Street, Cleburne, TX 76033. | Johnson County Public Works Department, 2 North Main Street, Cleburne, TX 76033. | https://msc.fema.gov/portal/advanceSearch. | Oct. 20, 2022 | 480879
Tarrant | City of Mansfield (22-06-0409P). | The Honorable Michael A. Evans, Mayor, City of Mansfield, 1200 East Broad Street, Mansfield, TX 76063. | Department of Zoning and Planning, 1200 East Broad Street, Mansfield, TX 76063. | https://msc.fema.gov/portal/advanceSearch. | Oct. 11, 2022 | 480606
Utah: Weber | Unincorporated areas of Weber County (21-08-1088P). | The Honorable Scott Jenkins, Chair, Weber County Commission, 2380 Washington Boulevard, Suite 360, Ogden, UT 84401. | Weber County Center, 2380 Washington Boulevard, Suite 360, Ogden, UT 84401. | https://msc.fema.gov/portal/advanceSearch. | Oct. 3, 2022 | 490187
Virginia:
Charles City | Unincorporated areas of Charles City County (22-03-0523P). | Michelle Johnson, Charles City County Administrator, P.O. Box 128, Charles City, VA 23030. | Charles City County Government Administration Building, 10900 Courthouse Road, Charles City, VA 23030. | https://msc.fema.gov/portal/advanceSearch. | Sep. 9, 2022 | 510198
Chesterfield | Unincorporated areas of Chesterfield County (22-03-0241P). | Joseph P. Casey, Chesterfield County Administrator, P.O. Box 40, Chesterfield, VA 23832. | Chesterfield County Environmental Engineering Department, 9800 Government Center Parkway, Chesterfield, VA 23832. | https://msc.fema.gov/portal/advanceSearch. | Oct. 20, 2022 | 510035

[FR Doc. 2022-16193 Filed 7-27-22; 8:45 am]

BILLING CODE 9110-12-P